DEPARTMENT OF COMMERCE

International Trade Administration

[C-489-819]

Steel Concrete Reinforcing Bar From the Republic of Turkey: Countervailing Duty Order

AGENCY: Enforcement and Compliance, International Trade Administration, Department of Commerce.

SUMMARY: Based on affirmative final determinations by the Department of Commerce (the Department) and the International Trade Commission (ITC), the Department is issuing a countervailing duty (CVD) order on steel concrete reinforcing bar (rebar) from the Republic of Turkey (Turkey).

DATES: Effective Date: November 6, 2014.

FOR FURTHER INFORMATION CONTACT: Kristen Johnson, Office III, AD/CVD Operations, Enforcement and Compliance, International Trade Administration, U.S. Department of Commerce, 14th Street and Constitution Avenue NW., Washington, DC 20230; telephone: (202) 482-4793.

SUPPLEMENTARY INFORMATION:

Background

On September 15, 2014, the Department published the final determination in the CVD investigation of rebar from Turkey.¹ On October 28, 2014, the ITC notified the Department of its final determination pursuant to sections 705(b)(1)(A)(i) and section 705(d) of the Tariff Act of 1930, as amended (the Act), that an industry in the United States is materially injured by reason of subsidized imports of subject merchandise from Turkey.² The ITC also determined that critical circumstances do not exist.³

¹ See Steel Concrete Reinforcing Bar from the Republic of Turkey: Final Affirmative Countervailing Duty Determination and Final Affirmative Critical Circumstances Determination, 79 FR 54963 (September 15, 2014) (Final Determination).

² See Steel Concrete Reinforcing Bar from Mexico and Turkey, Investigation Nos. 701-TA-502 and 731-TA-1227 (Final), USITC Publication 4496, October 2014).

³ Id.

Scope of the Order

The merchandise subject to this investigation is steel concrete reinforcing bar imported in either straight length or coil form (rebar) regardless of metallurgy, length, diameter, or grade. The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. Specifically excluded are plain rounds (i.e., non-deformed or smooth rebar). Also excluded from the scope is deformed steel wire meeting ASTM A1064/A1064M with no bar markings (e.g., mill mark, size, or grade) and without being subject to an elongation test. The HTSUS numbers are provided for convenience and customs purposes; however, the written description of the scope remains dispositive.

Countervailing Duty Order

In accordance with sections 705(b)(1)(A)(i) and 705(d) of the Act, the ITC notified the Department of its final determination that the industry in the United States producing rebar is materially injured by reason of subsidized imports of rebar from Turkey. Therefore, in accordance with section 705(c)(2) of the Act, we are publishing this CVD order.

Further, pursuant to 706(a) of the Act, the Department will direct U.S. Customs and Border Protection (CBP) to assess, upon further instruction by the Department, countervailing duties on unliquidated entries of rebar entered, or withdrawn from warehouse, for consumption on or after September 15, 2014, the date on which the Department published its final CVD determination in the Federal Register. With regard to the ITC's negative critical circumstances determination, the Department will instruct CBP to lift suspension and refund any cash deposits of estimated countervailing duties for entries on or after June 17, 2014, (i.e., 90 days prior to the date of the Final Determination), but before September 15, 2014.

Suspension of Liquidation

In accordance with section 706 of the Act, the Department will direct CBP to continue the suspension of liquidation of rebar from Turkey, effective the date of publication of the Department's notice of final determination in the Federal Register, and to assess, upon further advice by the Department, pursuant to section 706(a)(1) of the Act, countervailing duties for each entry of the subject merchandise in an amount based on the net countervailable subsidy rates for the subject merchandise, except for subject merchandise entered by Habas Sinai ve Tibbi Gazlar Istihsal Endustrisi A.S. (Habas), whose net subsidy rate is de minimis and, hence, is excluded from this order. This exclusion will apply only to subject merchandise both produced and exported by Habas.

CBP must require, at the same time as importers would normally deposit estimated duties on this merchandise, as cash deposit equal to the rates noted below:

Company | Subsidy rate
Icdas Celik Enerji Tersane ve Ulasim Sanayi A.S. | 1.25 percent
All Others | 1.25 percent

This notice constitutes the CVD order with respect to rebar from Turkey, pursuant to section 706(a) of the Act. Interested parties may contact the Department's Central Records Unit, Room 7046 of the main Commerce Building, for copies of an updated list of countervailing duty orders currently in effect.

This order is issued and published in accordance with section 706(a) of the Act and 19 CFR 351.211(b).

Dated: October 31, 2014.
Ronald K. Lorentzen,
Acting Assistant Secretary for Enforcement and Compliance.

[FR Doc. 2014-26414 Filed 11-5-14; 8:45 am]

BILLING CODE 3510-DS-P